Title 3—

The President

Proclamation 10992 of November 17, 2025

National Adoption Month, 2025

By the President of the United States of America

A Proclamation

Every child deserves a safe and nurturing home where they can learn, grow, and reach their full potential. Adoption makes that possible by opening the door to stability and belonging for children who need a family. During National Adoption Month, we commend the parents whose love has changed lives and the children whose presence has completed families—and we recommit to caring for the many children still waiting for the comfort and security of a permanent home.

Adoption reflects the deep value our Nation places on family and abundant life. As President, I am committed to empowering families who answer the call to open their hearts and homes to children. Through the One Big Beautiful Bill Act, I made the adoption tax credit more accessible and expanded the child tax credit, helping remove financial barriers to adopting and allowing families to save more of their income to care for their children.

While adoption creates beautiful new beginnings, too many children in our foster care system still wait for a permanent home. During my first term, I took monumental action to strengthen America's foster care and adoption systems by signing into law the landmark Family First Prevention Services Act—the most sweeping reform of Federal child welfare policy in decades. This law utilizes proven intervention methods to keep families intact and prevent unnecessary separation.

This term, I remain firmly committed to continuing this vital work alongside First Lady Melania Trump. Just last week, I signed an Executive Order on Fostering the Future for American Children and Families, to harness Federal support, technology, and strategic partnerships to provide young Americans in, or transitioning out of, the foster-care system with the tools they need to become successful adults. This effort is strengthened by the leadership of the First Lady whose work continues to uplift and protect the well-being of America's children—ensuring every child has greater access to a strong foundation for the future.

This month, we recognize the profound truth that all children are a gift from God, worthy of love, care, and family. We honor the parents and families who welcome children into their homes and provide the stability and guidance every young person deserves. Above all, we commit to protecting children, supporting those who care for them, and strengthening the pillar of family across our great Nation.

NOW, THEREFORE, I, DONALD J. TRUMP, President of the United States of America, by virtue of the authority vested in me by the Constitution and the laws of the United States, do hereby proclaim November 2025 as National Adoption Month throughout the United States. I encourage all Americans to observe this month by supporting children in need of a safe and loving home, uplifting the families who welcome them, and helping strengthen the bonds of family and community across our Nation.

IN WITNESS WHEREOF, I have hereunto set my hand this seventeenth day of November, in the year of our Lord two thousand twenty-five, and of the Independence of the United States of America the two hundred and fiftieth.

[FR Doc. 2025-20570

Filed 11-19-25; 11:15 am]

Billing code 3395-F4-P